Title 3—

The President

Proclamation 10537 of March 30, 2023

César Chávez Day, 2023

By the President of the United States of America

A Proclamation

Today, we honor César E. Chávez by carrying on the cause—“La Causa”—to which he dedicated his life: championing the dignity and rights of every worker, using nonviolence to fight for justice, and standing with organized labor to build an economy that rewards work and not just wealth.

César E. Chávez came of age picking produce and cotton in the fields of California. He labored in intense heat, all too familiar with the harms of poisonous pesticides. And he learned early on about the power of organizing for basic dignity and respect through his work with Fred Ross and the Community Service Organization. Working alongside trailblazing labor activist Dolores Huerta and inspired by heroes like Dr. Martin Luther King, Jr. and Mahatma Gandhi, he founded the United Farm Workers of America in 1962. Over the following three decades, Chávez marched, fasted, and boycotted—campaigning for collective bargaining rights, a minimum wage, unemployment insurance, and better health and safety standards for his fellow workers. His courage opened America's eyes to injustice and ushered in a new age of opportunity for farm workers and the working class.

On what would be his 96th birthday, Chávez's life and legacy as a leader of the labor and civil rights movements continue to guide our efforts to grow our economy from the bottom up and the middle out—fighting every day for America's working class. My Administration is creating good-paying jobs, protecting the retirement savings of millions of union workers, pushing to ban unfair non-compete agreements, and strengthening workers' rights to organize. Since I took office, the Department of Labor has recovered $16.3 million in back pay and damages—compensation employers owed to their employees—for nearly 20,000 farmworkers. This hard-earned money can mean a worker's ability to pay rent, buy groceries, or save for their children's futures.

The Department of Labor is also working on new rules to protect workers from extreme heat in the workplace, and it is conducting inspections in industries with high incidences of heat-related illnesses or deaths. Meanwhile, the Department of Agriculture has provided hundreds of millions of dollars in financial assistance to farmworkers and meatpacking workers for expenses incurred due to the COVID-19 pandemic. It has also helped agricultural employers to implement more robust health and safety standards.

There is more work to do. That is why I continue to call for paid sick leave for every worker in America; for stronger organizing and collective bargaining rights; and for better conditions for people who work on farms, on ranches, and across the food and agricultural industry. I encourage the Congress to pass the Protecting the Right to Organize Act. I also encourage the Congress to pass the Farm Workforce Modernization Act to create a pathway to citizenship for farmworkers, who put food on our tables and sustain our Nation.

This César Chávez Day, as we celebrate an American hero, let us be united in our efforts to stand up for the dignity and rights of all workers. I proudly keep a bust of César E. Chávez in the Oval Office, which reminds me daily of my commitment to the Latino community and to the American people. The First Lady has honored his legacy with the Chávez family in Keene and Delano, California, home of Chávez's movement. I want to ensure the American Dream is within reach of all who live in our Nation, not just because it is right for our economy, but because it is the right thing to do for humanity. In Chávez's own words, “The love for justice that is in us is not only the best part of our being, but it is also the most true to our nature.”

NOW, THEREFORE, I, JOSEPH R. BIDEN JR., President of the United States of America, by virtue of the authority vested in me by the Constitution and the laws of the United States, do hereby proclaim March 31, 2023, as César Chávez Day. I call upon all Americans to observe this day as a day of service and learning, with appropriate service, community, and education programs to honor César E. Chávez's enduring legacy.

IN WITNESS WHEREOF, I have hereunto set my hand this thirtieth day of March, in the year of our Lord two thousand twenty-three, and of the Independence of the United States of America the two hundred and forty-seventh.

[FR Doc. 2023-07088

Filed 4-3-23; 8:45 am]

Billing code 3395-F3-P